DEPARTMENT OF COMMERCE

International Trade Administration

[C-401-401]

Certain Carbon Steel Products From Sweden: Extension of Preliminary Results of Countervailing Duty Administrative Review

AGENCY: Import Administration, International Trade Administration, Department of Commerce.

ACTION: Notice of extension of time limit for preliminary results of Countervailing Duty Administrative Review.

EFFECTIVE DATE: June 28, 2000.

FOR FURTHER INFORMATION CONTACT: Tipten Troidl at (202) 482-1767 or Gayle Longest at (202) 482-3338, Office of AD/CVD Enforcement VI, Import Administration, International Trade Administration, U.S. Department of Commerce, 14th Street and Constitution Avenue, NW., Washington, DC 20230.

Statutory Time Limits

Section 751(a)(3)(A) of the Tariff Act of 1930, as amended (the Act), requires the Department to make a preliminary determination within 245 days after the last day of the anniversary month of an order/finding for which a review is requested and a final determination within 120 days after the date on which the preliminary determination is published. However, if it is not practicable to complete the review within the time period, section 751(a)(3)(A) of the Act allows the Department to extend the time limit for the preliminary determination to a maximum of 365 days and for the final determination to 180 days (or 300 days if the Department does not extend the time limit for the preliminary determination) from the Date of publication of the preliminary determination.

Background

On December 3, 1999, the Department published a notice of initiation of administrative review of the countervailing duty on certain carbon steel products from Sweden, covering the period January 1, 1998 through December 31, 1998 (64 FR 56485). The preliminary results are currently due no later than July 2, 2000.

Extension of Preliminary Results of Review

We determine that it is not practicable to complete the preliminary results of this review within the original time limit. Therefore, the Department is extending the time limits for completion of the preliminary results until no later than October 31, 2000. See Decision Memorandum from Melissa G. Skinner, Office Director for AD/CVD Office VI, to Holly A. Kuga, Acting Deputy Assistant Secretary, dated June 21, 2000, which is on public file in the Central Records Unit, Room B-099 of the Department of Commerce. We intend to issue the final results no later than 120 days after the publication of the preliminary results.

This extension is in accordance with section 751(a)(3)(A) of the Act.

Dated: June 22, 2000.
Holly A. Kuga,
Acting Deputy Assistant Secretary, Import Administration.

[FR Doc. 00-16380 Filed 6-27-00; 8:45 am]

BILLING CODE 3510-DS-P